DEPARTMENT OF COMMERCE

National Oceanic and Atmospheric Administration

50 CFR Part 648

[Docket No. 071030625-7696-02]

RIN 0648-XG20

Fisheries of the Northeastern United States; Scup Fishery; Reduction of Winter I Commercial Possession Limit

AGENCY: National Marine Fisheries Service (NMFS), National Oceanic and Atmospheric Administration (NOAA), Commerce.

ACTION: Temporary rule; inseason adjustment.

SUMMARY: NMFS announces the reduction of the scup coastwide commercial possession limit from Maine through North Carolina for the Winter I period. Regulations governing the scup fishery require publication of this notification to advise the coastal states from Maine through North Carolina that 80 percent of the commercial quota allocated to the Winter I period is projected to be harvested and to announce that the possession limit for a Federal vessel permit holder is reduced to 1,000 lb (454 kg) of scup per trip. This possession limit will remain in effect until the end of the Winter I period (through April 30, 2008) or until the Winter I quota allocation has been fully harvested, which ever occurs first.

DATES: Effective 0001 hours, March 16, 2008, through April 30, 2008.

FOR FURTHER INFORMATION CONTACT: Emily Bryant, Fishery Management Specialist, (978) 281-9244.

SUPPLEMENTARY INFORMATION: Regulations governing the scup fishery are found at 50 CFR part 648. The regulations at § 648.120(c) require the Northeast Regional Administrator to publish annual scup quota allocations and the percentage of landings attained during the Winter I period at which the possession limits would be reduced. On December 31, 2007, NMFS published the final rule for the summer flounder, scup, and black sea bass specifications in the Federal Register (72 FR 74197). This final rule requires NMFS to publish a notification in the Federal Register advising and notifying commercial vessels and dealer permit holders that the commercial scup possession limit will be reduced once 80 percent of the Winter I Period quota is projected to be harvested. Based upon recent projections, the Regional Administrator anticipates that the 80 percent of the Federal commercial quota of 2,388,611 lb (1,083 mt) for the 2008 Winter I period will be harvested by March 15, 2008. Therefore, to maintain the integrity of the 2009 Winter I period quota by avoiding quota overages, the commercial scup possession limit will be reduced from 30,000 lb (13,608 kg) to 1,000 lb (454 kg) of scup per trip. This possession limit will remain in effect until the end of the Winter I period (through April 30, 2008) or until the Winter I quota allocation has been fully harvested, which ever occurs first.

Classification

This action is required by 50 CFR part 648 and is exempt from review under Executive Order 12866.

Authority: 16 U.S.C. 1801 et seq.

Dated: March 10, 2008.
Alan D. Risenhoover,
Director, Office of Sustainable Fisheries, National Marine Fisheries Service.

[FR Doc. E8-5047 Filed 3-12-08; 8:45 am]

BILLING CODE 3510-22-S